GENERAL SERVICES ADMINISTRATION

Office of Management Services; Cancellation of an Optional Form by the Department of State

AGENCY: General Services Administration.

ACTION: Notice.

SUMMARY: The Department of State is canceling the following Optional Form because of low demand in the Federal Supply Service: OF 157, Medical Examination of Applicants for United States Visas.

FOR FURTHER INFORMATION CONTACT: Mr. Charles Cunningham, Department of State, 202-312-9605.

DATES: Effective August 22, 2002.

Dated: August 14, 2002.
Barbara M. Williams,
Deputy Standard and Optional Forms Management Officer, General Services Administration.

[FR Doc. 02-21399 Filed 8-21-02; 8:45 am]

BILLING CODE 6820-34-M